DEPARTMENT OF THE INTERIOR

Fish and Wildlife Service

[FWS-R8-ES-2018-N042; FXES11130800000-189-FF08EVEN00]

Habitat Conservation Plan and Environmental Assessment for Gavilan College San Benito Campus and Fairview Corners Residential Development

AGENCY: Fish and Wildlife Service, Interior.

ACTION: Notice of availability; receipt of permit application, draft environmental assessment, draft habitat conservation plan, request for comment.

SUMMARY: This notice advises the public that we, the U.S. Fish and Wildlife Service, have prepared a draft environmental assessment under the National Environmental Policy Act of 1967, as amended, and it's implementing regulations. This notice also announces the receipt of an application for an incidental take permit under the Endangered Species Act of 1973, as amended, and receipt of a draft habitat conservation plan.

DATES: Submitting Comments: To ensure consideration, written comments must be received by July 19, 2018.

ADDRESSES: You may obtain a copy of the draft Habitat Conservation Plan, draft Environmental Assessment, and related documents on the internet at http://www.fws.gov/ventura, or you may request copies of the documents by writing to the Ventura Fish and Wildlife Ecological Services Office, U.S. Fish and Wildlife Service, 2493 Portola Road, Suite B, Ventura, CA 93003. Please address written comments to Stephen P. Henry, Field Supervisor, at the address above. Comments may also be sent by facsimile to (805) 644-3958.

FOR FURTHER INFORMATION CONTACT: Chad Mitcham, Fish and Wildlife Biologist, by mail to the address in ADDRESSES or by phone at (805) 677-3328.

SUPPLEMENTARY INFORMATION: This notice advises the public that we, the U.S. Fish and Wildlife Service (Service), have prepared the draft environmental assessment (EA) under the National Environmental Policy Act of 1967, as amended (42 U.S.C. 4321 et seq.; NEPA), and its implementing regulations in the Code of Federal Regulations (CFR) at 40 CFR 1506.6.

This notice also announces the receipt of an application from Mary Beth Long of Fairview Corners LLC and Frederick Harris of the Gavilan Joint Community College District (Applicants) for a 25-year incidental take permit (ITP) under the Endangered Species Act of 1973, as amended (16 U.S.C. 1531 et seq.; Act). The Applicants prepared the draft Gavilan College San Benito Campus and Fairview Corners Residential Development Habitat Conservation Plan (HCP) pursuant to section 10(a)(1)(B) of the Act. The Applicants are requesting the authorization of incidental take for the federally threatened California tiger salamander (Ambystoma californiense) and the federally endangered San Joaquin kit fox (Vulpes macrotis mutica) that could result from activities covered under the HCP.

Introduction

The HCP is a combined effort between the Gavilan Joint Community College District and Fairview Corners, LLC, for development of a college campus and residential subdivision (maximum 220 units) on an approximately 137-acre site located southeast of the City of Hollister, in unincorporated San Benito County. In addition to measures proposed for the protection of the covered species during construction within the project site, the Applicants propose to mitigate impacts to the covered species and their habitat by placing a conservation easement over approximately 329 acres of the Mariposa Peak Conservation Preserve in eastern Santa Clara County.

Background Information

Section 9 of the Act (16 U.S.C. 1531-1544 et seq.) and Federal regulations (50 CFR 17) prohibit the taking of fish and wildlife species listed as endangered or threatened under section 4 of the Act. Take of federally listed fish or wildlife is defined under the Act as to harass, harm, pursue, hunt, shoot, wound, kill, trap, capture, or collect listed species, or attempt to engage in such conduct. The term “harass” is defined in the regulations as to carry out actions that create the likelihood of injury to listed species to such an extent as to significantly disrupt normal behavioral patterns, which include, but are not limited to, breeding, feeding, or sheltering (50 CFR 17.3). The term “harm” is defined in the regulations as significant habitat modification or degradation that results in death or injury of listed species by significantly impairing essential behavioral patterns, including breeding, feeding, or sheltering (50 CFR 17.3). However, under specified circumstances, the Service may issue permits that allow the take of federally listed species, provided that the take that occurs is incidental to, but not the purpose of, an otherwise lawful activity.

Regulations governing permits for endangered and threatened species are at 50 CFR 17.22 and 17.32, respectively. Section 10(a)(1)(B) of the Act contains provisions for issuing such incidental take permits to non-Federal entities for the take of endangered and threatened species, provided the following criteria are met:

(1) The taking will be incidental;

(2) The applicants will, to the maximum extent practicable, minimize and mitigate the impact of such taking;

(3) The applicants will develop a proposed HCP and ensure that adequate funding for the HCP will be provided;

(4) The taking will not appreciably reduce the likelihood of the survival and recovery of the species in the wild; and

(5) The applicants will carry out any other measures that the Service may require as being necessary or appropriate for the purposes of the HCP.

Proposed Action

The Service would issue an ITP to the Applicants for a period of 25 years for covered activities at the proposed project site in San Benito County. The proposed project would result in the permanent loss of approximately 137 acres of suitable habitat for the California tiger salamander and San Joaquin kit fox.

Plan Area

The project site is located southeast of the City of Hollister, in unincorporated San Benito County. The Gavilan Join Community College District owns approximately 77 acres of the southern portion of the 137-acre project site, while Fairview Corners, LLC, owns the remaining 60 acres. The project site currently consists of unimproved rangeland and agricultural fields of cultivated barley that are annually disked and periodically grazed by cattle.

Covered Activities

The proposed section 10 ITP would allow take of covered wildlife species resulting from covered activities in the proposed HCP area. The Applicants are requesting incidental take authorization for covered species that could be affected by all activities associated with the construction of the Gavilan College San Benito Campus and Fairview Corners Residential Development project, as identified in the HCP.

Covered Species

Covered species are those species addressed in the HCP for which conservation actions will be implemented and for which the Applicants are seeking an ITP for a period of 25 years. Proposed covered species include the federally threatened California tiger salamander (Ambystoma californiense) and the federally endangered San Joaquin kit fox (Vulpes macrotis mutica).

National Environmental Policy Act Compliance

The EA was prepared to analyze the impacts of issuing an ITP based on the HCP and to inform the public of the proposed action, alternatives, and associated impacts and disclose any irreversible commitments of resources.

The proposed permit issuance triggers the need for compliance with NEPA. The proposed action presented in the EA is compared to the no-action and reduced development scale alternatives. The No-Action and Reduced Development Scale alternatives represent estimated future conditions to which the proposed action's estimated future conditions can be compared.

No-Action Alternative

Under the No-Action Alternative, the Service would not issue an ITP, and the HCP would not be implemented. Under this alternative, the project site would continue to be utilized for the purposes of cultivation of barley and the periodic grazing of cattle. Under the No-Action Alternative, the permanent loss of suitable habitat for the covered species would not occur; although, agricultural activities would continue resulting in negative effects to the species. Additionally, offsite mitigation of higher quality habitat would not occur.

Reduced Development Scale Alternative

This alternative assumes that the Fairview Corners Residential Development would be developed with estate homes on minimum 5-acre lots, and a reduced version of the Gavilan College project would be also developed. This alternative could include the preservation of a portion of the project site for the California tiger salamander in and around the area of the former stock pond; however, this would potentially increase the likelihood of the area to function as a population sink, primarily due to the loss of suitable upland habitat in the immediate vicinity. The biological resource impacts under this alternative would be similar to and potentially more significant that those identified under the proposed project.

Public Comments

If you wish to comment on this notice, the EA, and HCP, you may submit comments by any one of the methods in ADDRESSES.

Public Availability of Comments

Before including your address, phone number, or other personal identifying information in your comment, you should be aware that your entire comment—including your personal identifying information—might be made publicly available at any time. While you can ask us in your comment to withhold your personal identifying information from public review, we cannot guarantee that we will be able to do so.

Next Steps

Issuance of an incidental take permit is a Federal proposed action subject to compliance with NEPA. We will evaluate the application, associated documents, and any public comments we receive to determine whether the application meets the requirements of NEPA regulations and section 10(a) of the Act. If we determine that those requirements are met, we will issue a permit to the applicant for the incidental take of the Covered Species. We will make our final permit decision no sooner than 30 days after the public comment period closes.

Authority

We publish this notice under the National Environmental Policy Act of 1969, as amended (42 U.S.C. 4321-4347 et seq.; NEPA), and its implementing regulations in the Code of Federal Regulations (CFR) at 40 CFR 1500-1508, as well as in compliance with section 10(c) of the Endangered Species Act (16 U.S.C. 1531-1544 et seq.; Act).

Dated: June 13, 2018.
Stephen P. Henry,
Field Supervisor, U.S. Fish and Wildlife Service, Ventura Fish and Wildlife Office, Ventura, California.

[FR Doc. 2018-13127 Filed 6-18-18; 8:45 am]

BILLING CODE 4333-15-P